TENNESSEE VALLEY AUTHORITY

Sunshine Act Meetings

TIME AND DATE: 9 a.m. ET on August 21, 2025.

PLACE: Knoxville Office Complex, Knoxville, Tennessee.

STATUS: Open.

MATTERS TO BE CONSIDERED:

Meeting No. 25-03

The TVA Board of Directors will hold a public meeting on August 21 at the Knoxville Office Complex, Tennessee. The meeting will be called to order at 9:00 a.m. ET to consider the agenda items listed below. While the Board currently lacks a quorum, it is anticipated that the Board will take an action in accordance with Section 1.6 of its Bylaws.

On August 20, at the Knoxville Office Complex, the public may comment on any agenda item or subject at a Board-hosted public listening session which begins at 2 p.m. ET and will last until 4 p.m. Preregistration is required to address the Board.

Agenda

1. Approval of Minutes of the May 8, 2025 Board Meeting

2. Report of the Audit, Risk, and Cybersecurity Committee

A. FY26 External Auditor Selection

3. Report of the Finance, Rates, and Portfolio Committee

4. Report of the People and Governance Committee

5. Report of the Operations and Nuclear Oversight Committee

6. Report of the External Stakeholders and Regulation Committee

A. FACA Charter Renewal

7. Information Items

A. Increase in Budget for Capital Projects

B. Committee Assignments

C. Delegation of Authority

D. Corporate Goals for FY2026

E. FY 2026 Expenditures and Related Items

F. CEO Appointment Terms—Long-Term Incentive Plan Benefit Eligibility

8. Report From President and CEO

CONTACT PERSON FOR MORE INFORMATION: For more information: Please contact Melissa Greene, TVA Media Relations at (865) 632-6000, Knoxville, Tennessee. Anyone who wishes to comment on any of the agenda in writing may send their comments to: TVA Board of Directors, Board Agenda Comments, 400 West Summit Hill Drive, Knoxville, Tennessee 37902.

Dated: August 14, 2025.
Edward C. Meade,
Agency Liaison.

[FR Doc. 2025-15719 Filed 8-14-25; 4:15 pm]

BILLING CODE 8120-08-P